DEPARTMENT OF COMMERCE

International Trade Administration

Modification to Content Published by Import Administration in the Federal Register

AGENCY: Import Administration, International Trade Administration, Department of Commerce.

SUMMARY: Due to the mounting costs of publishing notices in the Federal Register and widespread access to the internet, Import Administration intends to modify the manner in which its determinations in antidumping and countervailing duty proceedings are made available to the public. The content of many of Import Administration's Federal Register notices will be reduced, with much of the information previously included in our Federal Register notices being made available to the public in separate memoranda published on Import Administration's Web site. Extension notices for preliminary and final results of reviews and certain other notices will no longer be published in the Federal Register.

DATES: Effective Date: April 30, 2012.

FOR FURTHER INFORMATION CONTACT: Dustin Ross, AD/CVD Operations, Office 1, Import Administration, or Shana Hofstetter, Office of Chief Counsel for Import Administration, U.S. Department of Commerce, 14th Street and Constitution Avenue NW., Washington, DC 20230; telephone: (202) 482-0747 and (202) 482-3414, respectively.

SUPPLEMENTARY INFORMATION:

Background

Pursuant to sections 703(c)(2), 733(c)(3), 751(a)(1), 751(b)(1), 751(c)(2), and 777(i)(1) of the Tariff Act of 1930 as amended (“the Act”), Import Administration (IA) is required to publish certain notices in the Federal Register (FR). Following review of the requirements of the Act and our regulations, we have identified ways to shorten the length of many of our FR publications while also making available to the public and interested parties all pertinent information regarding our decisions. In addition, as neither the Act nor the Department of Commerce (“Department”) regulations require publication of extension notices for the preliminary and final results of reviews conducted under section 751 of the Act, we will no longer publish such notices. Further, IA will cease publishing a list of pending scope decisions in its quarterly scope ruling publication and will cease publishing an Advance Notification of Sunset Reviews when no such review is scheduled for initiation the following month.

These modifications are in line with the modification IA adopted in 2000, when it reduced the size of FR notices for final determinations and results of review by developing Issues and Decision Memoranda that now regularly accompany FR notices. See Notice of Reduction in the Size of Antidumping/Countervailing Duty Federal Register Notices, 65 FR 3654 (January 24, 2000). The proven success of that modification, and the fact that interested parties now accept that as the standard for the final determinations and results of review, inform the decision to adopt these changes.

Outside parties and the public at large will continue to have access to all significant information that historically has been included in our FR notices. With the exception of the Advance Notification of Sunset Reviews, when no such review is scheduled for initiation the following month, and pending scope determinations, the information that we are henceforth omitting from the FR notices will be transferred to other memoranda, included in disclosure packages, and published on IA's Web site.

Modifications

IA has determined that it will no longer publish extension notices for preliminary and final results of reviews, as there are no statutory or regulatory requirements for doing so and the financial burden outweighs the benefits associated with their publication. Rather, the Department will place a memorandum extending the deadline on the official case file which, when the service becomes available, will be accessible to parties on IA ACCESS, at http://iaaccess.trade.gov. In addition, parties and the public will be informed of upcoming deadlines and any extensions associated with these deadlines in a calendar published on IA's Web site.

IA will cease publishing our notices of Advance Notification of Sunset Review when no such reviews are scheduled for initiation in the following month. IA has also determined to cease publishing a list of pending scope inquiries in its quarterly publication of scope decisions.

All other notices will continue to be published in the FR, in a modified and condensed format. IA will continue to include in its published notices fundamental case information (e.g., segment of proceeding, an abbreviated scope description, period of review, summary of findings, summary of methodology, names of exporters/producers subject to the proceeding, margins calculated, notification of disclosure and public comment, notifications of assessment and cash deposit instructions, and a reminder of any deadlines associated with the notice's publication) in accordance with the requirements of the Act. For preliminary and final determinations of investigations, and antidumping and countervailing duty orders, IA will include the entire scope discussion in the FR, and not an abbreviated format. Abbreviated scope descriptions in other notices will provide a reference to the location of the full scope description. All other information will be transferred to separate memoranda. For example, for preliminary results of an administrative review, IA will issue a memorandum to accompany the FR notice, which will include the complete, detailed discussion of our margin calculation methodology, significant case issues, and background/history of the order. The memorandum will be a public document released to interested parties and published on IA's Web site. External services, such as Lexis and Westlaw, may also make the memorandum available to their clients in an electronically searchable format. In the coming months, IA will create such memoranda for most notices that will continue to be published in the FR and identify the content that will remain in the FR notices and the content that will be included in the separate memorandum.

Implementation

The modifications described in this notice will be incrementally implemented. Beginning May 15, 2012, IA will no longer publish extension notices in the FR. Rather, these extensions will be published in calendar form on the IA Web site, available at http://ia.ita.doc.gov/frn/. On that date, IA will stop publishing Advance Notification of Sunset Reviews when no such review is scheduled for initiation the following month. The next quarterly scope decision will no longer contain a list of pending scope decisions. Beginning September 1, 2012, abbreviated notices for all preliminary determinations and preliminary results of review will be published in the FR, while the memorandum accompanying each notice that includes the background, methodology, and additional content will be adopted through the notice's publication and posted on the IA Web site, available at http://ia.ita.doc.gov/frn/ext/.

Finally, we anticipate that other IA notices will be published in abbreviated format in the near future, following implementation of the changes discussed in this notice.

Dated: April 23, 2012.
Paul Piquado,
Assistant Secretary for Import Administration.

[FR Doc. 2012-10354 Filed 4-27-12; 8:45 am]

BILLING CODE 3510-DS-P